DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 20, 2006.

Interested persons are invited to submit written comments regarding the subject matter of the investigations to the Director, Division of Trade Adjustment Assistance, at the address shown below, not later than March 20, 2006.

The petitions filed in this case are available for inspection at the Office of the Director, Division of Trade Adjustment Assistance, Employment and Training Administration, U.S. Department of Labor, Room C-5311, 200 Constitution Avenue, NW., Washington, DC 20210.

Signed at Washington, DC this 1st day of March 2006.
Erica R. Cantor,
Director, Division of Trade Adjustment Assistance.

Appendix
[TAA petitions instituted between 2/21/06 and 2/24/06]
TA-W | Subject firm (Petitioners) | Location | Date of institution | Date of petition
58863 | Nidec America Corporation (Comp) | Norwood, MA | 02/21/06 | 02/15/06
58864 | DSM Pharma Chemicals North America, Inc. (Comp) | South Haven, MI | 02/21/06 | 02/14/06
58865 | Butler Veneer Sales, Inc. (Comp) | High Point, NC | 02/21/06 | 02/17/06
58866 | Dolan Industries, Inc. (Comp) | Clinton, MA | 02/21/06 | 02/16/06
58867 | Hayes Lemmerz International (Comp) | Huntington, IN | 02/21/06 | 02/17/06
58868 | Browne Ink(State) | McMinnville, OR | 02/21/06 | 02/17/06
58869 | Teknetix, Inc.(Wkrs) | Parkersburg, WV | 02/21/06 | 02/17/06
58870 | National Mfg. Company (Comp) | Sterling, IL | 02/21/06 | 02/17/06
58871 | Tyco Electronics Lombard(Wkrs) | Lombard, IL | 02/21/06 | 02/03/06
58872 | Manpower International(State) | Newton, NC | 02/21/06 | 02/17/06
58873 | AstenJohnson, Inc. (Comp) | Warrendale, PA | 02/21/06 | 02/20/06
58874 | Hart and Cooley-Milcor(Union) | Lima, OH | 02/22/06 | 02/20/06
58875 | Accenture, LLP (Comp) | Atlanta, GA | 02/22/06 | 02/09/06
58876 | Selmer Apparel (Comp) | Selmer, TN | 02/22/06 | 02/22/06
58877 | Lamdau Uniforms (Comp) | Olive Branch, MS | 02/22/06 | 02/22/06
58878 | Creative Label, Inc. (Comp) | Martin, TN | 02/22/06 | 02/09/06
58879 | Martin Engraving Corporation (Comp) | Martin, TN | 02/22/06 | 02/09/06
58880 | T G Manufacturing, Inc. (Comp) | Hammonton, NJ | 02/22/06 | 02/21/06
58881 | Paris Accessories(UNITE) | New Smithville, PA | 02/22/06 | 02/21/06
58882 | APA Enterprises, Inc. (Comp) | Aberdeen, SD | 02/22/06 | 02/06/06
58883 | Harris Bank(Wkrs) | Chicago, IL | 02/22/06 | 02/07/06
58884 | Perras Lumber, Inc. (Comp) | Groveton, NH | 02/22/06 | 02/09/06
58885 | Essroc Cement Corporation(Wkrs) | Nazareth, PA | 02/22/06 | 02/17/06
58886 | Hampson Corporation (Comp) | North Ridgeville, OH | 02/22/06 | 02/22/06
58887 | Haden International Group(State) | Auburn Hills, MI | 02/22/06 | 02/07/06
58888 | General Motors Lansing Metal Center(State) | Lansing, MI | 02/22/06 | 02/06/06
58889 | Visteon Climate Control Systems(UAW) | West Seneca, NY | 02/22/06 | 02/17/06
58890 | C and J Jewelry(State) | Providence, RI | 02/22/06 | 02/22/06
58891 | Molnlycke Health Care, Inc. (Comp) | El Paso, TX | 02/22/06 | 02/14/06
58892 | Florida Components Corp.(Wkrs) | Hialeah, FL | 02/23/06 | 02/15/06
58893 | Agilent Technologies (Comp) | Santa Rosa, CA | 02/23/06 | 02/22/06
58894 | Russell Corporation (Comp) | Atlanta, GA | 02/23/06 | 02/22/06
58895 | Slater Companies(State) | Pawtucket, RI | 02/23/06 | 02/22/06
58896 | Reed Hycalog(Union) | Houston, TX | 02/23/06 | 02/22/06
58897 | Ingersoll CM Systems, LLC (Comp) | Midland, MI | 02/23/06 | 02/22/06
58898 | Tecumseh(Union) | Grafton, WI | 02/23/06 | 02/22/06
58899 | Pacific Cycle(Wkrs) | Olney, IL | 02/23/06 | 02/02/06
58900 | Plews-Edelman(Wkrs) | Dixon, IL | 02/23/06 | 02/18/06
58901 | Spirit Mountain Logistics, LLC (Comp) | Corvallis, OR | 02/23/06 | 02/22/06
58902 | Marcus Brothers Textiles, Inc.(Wkrs) | New York, NY | 02/23/06 | 02/14/06
58903 | Bunker Hill Commercial Warehouse(Wkrs) | Paterson, NJ | 02/23/06 | 02/14/06
58904 | Block Corporation (Comp) | Amory, MS | 02/23/06 | 02/07/06
58905 | Xycom Automation (Comp) | Saline, MI | 02/23/06 | 02/16/06
58906 | Allianz Sweeper Co. (Comp) | Chino, CA | 02/24/06 | 02/21/06
58907 | Vaughan Furniture Company, Inc. (Comp) | Galax, VA | 02/24/06 | 02/24/06
58908 | South Carolina Elastics, Inc.(Wkrs) | Landrum, SC | 02/24/06 | 02/07/06
58909 | Abco Rents of Laurens (Comp) | Laurens, SC | 02/24/06 | 02/23/06
58910 | Joan Fabrics Corporation (Comp) | Fall River, MA | 02/24/06 | 02/21/06

[FR Doc. E6-3424 Filed 3-9-06; 8:45 am]

BILLING CODE 4510-30-P